DEPARTMENT OF JUSTICE

Antitrust Division

Notice Pursuant to the National Cooperative Research and Production Act of 1993—Telemanagement Forum

Notice is hereby given that, on February 15, 2011, pursuant to Section 6(a) of the National Cooperative Research and Production Act of 1993, 15 U.S.C. 4301 et seq. (“the Act”), Telemanagement Forum (“The Forum”) has filed written notifications simultaneously with the Attorney General and the Federal Trade Commission disclosing changes in its membership. The notifications were filed for the purpose of extending the Act's provisions limiting the recovery of antitrust plaintiffs to actual damages under specified circumstances. Specifically, 6fusion USA, Inc., Durham, NC; Abiba Systems Private Limited, Bangalore, Karnataka, INDIA; AdvOSS, Richmond, British Columbia, CANADA; Aircel Limited, Gurgaon, Haryana, INDIA; AIST ISP, Togliatti, RUSSIA; angel.com, Mclean, VA; Aperium P/L, Melbourne, Victoria, AUSTRALIA; Asis Technology Partners S.A.C., Lima, PERU; AssuringBusiness Pte Ltd, Singapore, SINGAPORE; Atoll Solution Ltd., Urom, HUNGARY; Axial Sp. Z.o.o., Warszawa, POLAND; Axis Convergence Private Limited, Noida, Uttar Pradesh, INDIA; Birdstep Technology, Espoo, FINLAND; Bonsai Network India Pvt Ltd, Kolkata, West Bengal, INDIA; Business Logic Systems, Belper, Derbyshire, UNITED KINGDOM; Cariden Technologies Inc., Mountain View, CA; Carrywater Consulting z.o.o., Warszawa, POLAND; Charter Communications, St. Louis, MO; Clarebourne Consultancy Ltd, Farnham, Surrey, UNITED KINGDOM; Consultancy & Systems Engineering (c & se), Herrsching a. Ammersee, GERMANY; Cycle 30, Seattle, WA; Dassault Systemes Enovia Corp., Lowell, MA; DataProbity, Stuart, FL; Dextra Technologies, Monterrey, Nuevo Leon, MEXICO; EA Principles, Inc., Alexandria, VA; Edge Strategies Inc., Wayland, MA; ESRI, Redlands, CA; FARICE, Kopavogur, ICELAND; Friedhelm, Fink Kiel, GERMANY; Graphene, Palm Coast, FL; GVT Curitiba, Parana, BRAZIL; HughesTelematics, Inc., Atlanta, GA; Inducta d.o.o., Zagreb, CROATIA; Infinite Infosoft Services Pvt Ltd, Gurgaon, INDIA; ING Bank N.V., Amsterdam, NETHERLANDS; integracija od-do d.o.o., Zagreb, CROATIA; Intraway Corp Capital Federal, Buenos Aires, ARGENTINA; Intune Networks, Dublin, IRELAND; ISP Alliance, Inc. DBA ZCorum, Alpharetta, GA; Joyent, San Francisco, CA; KPN International, Dusseldorf, GERMANY; Leonid Systems, Washington, DC; LG CNS India Pvt Ltd, Bangalore, Karnataka, INDIA; Marcus Aurelius, Moscow, RUSSIA; Meditelecom, Casablanca, MOROCCO; MKC, Darmstadt, GERMANY; Model Advisors, West Linn, OR; Monolith Software, St. Charles, IL; NASA JPL, Pasadena, CA; NetBoss Technologies, Inc., Sebastian, FL; Network Critical, LLC, Buffalo, NY; Nimsoft, Campbell, CA; Northop Grumman Corporation—(Information Systems, Defense Enterprise Solutions), Mclean, VA; NTG Clarity Networks Inc. Cairo, EGYPT; Open Systems S.A., Quito, ECUADOR; Opencity Media Limited, Newton Le Willows, Merseyside, UNITED KINGDOM; Philippine Long Distance Telephone Company (PLDT), Makati City, PHILIPPINES; PLINTRON Global Technology Solutions Private Limited Chennai, Tamilnadu, INDIA; POWERACT Consulting, Casablanca, MOROCCO; Regent University, Virginia Beach, VA; Sandvine, Waterloo, Ontario, CANADA; SAPO (PT Comunicacoes), Lisbon, PORTUGAL; Seacom ltd Floreal, Floreal, MAURITIUS; SevOne, Inc., Newark, DE; Sidonis Limited, Bath, UNITED KINGDOM; Sitra, Helsinki, FINLAND; Solace Systems, Ottawa, Ontario, CANADA; SpatiaIinfo, Inc., Englewood, CO; Sybase, an SAP Company, Dublin, CA; Symbiosis Institute of telecom management, Pune, Maharashtra, INDIA; Tango Telecom Ltd, Limerick, IRELAND; Telconet S.A., Quito, Pichincha, ECUADOR; Telconet S.A., Guayaquil, Guayas, ECUADOR; Telesur, Paramaribo, SURINAME; TeleworX LLC, Reston, VA; The Cloudscaling Group, Inc., San Francisco, CA; TIBCO Software Inc, Palo Alto, CA; T-Mobile Nederland BV, Den Haag, NETHERLANDS; True Corporation Public Company Limited, Bangkok, THAILAND; United Telecommunications Services, Willemstad, Curaco, NETHERLANDS ANTILLES; USC-University of Southern California, Los Angeles, CA; Varaha, Dallas, TX; XINTEC S.A., Munsbach, LUXEMBOURG; and Zimory, Berlin, GERMANY, have been added as parties to this venture.

The following parties have changed their names: Abiba Systems to Abiba Systems Private Limited, Bangalore, Karnataka, INDIA; Sopra India Pvt, Ltd to Aircel Limited., Guragon, Haryana, INDIA; AIST ISP to ZAO `AIST', Togliatti, RUSSIA; Asis TP SAC to Asis Technology Partners S.A.C., Lima, PERU; Axial to Axial Sp.z.o.o., Warszawa, POLAND; Technology to Birdstep Technology, Espoo, FINLAND; Ushacomm India Pvt. Ltd to Bonsai Network India Pvt Ltd., Kolkata, West Bengal, INDIA; CA to CA Technologies, Inc., Portsmouth, NH; ONO to CABLEUROPA S.A.U.(ONO), Madrid, SPAIN; Cariden Technologies to Cariden Technologies, Inc., Mountain View, CA; Cogent Defence & Security Networks to Cassidian Systems (formerly Cogent Defence and Security System), Newport, South Wales, UNITED KINGDOM; Celcom (Malaysia) Sdh Bhd to Celcom Axiata Berhad, Kuala Lumpur, MALAYSIA; Enovia to Dessault Systemes Enovia Corp., Lowell, MA; Dialog Telkom PLC to Dialog Axiata PLC, Colombo, SRI LANKA; A Principals, Inc. to EA Principals, Inc., Alexandria, VA; ri to ESRI, Redlands, CA; Global Village Telecom to GVT; Hello Axiata Company Limited to Hello Axiata Company Ltd., Khan Chamkarmon, Phnom Penh, CAMBODIA; HughesTelematics to HughesTelematics, Inc., Atlanta, GA; Inducta to Inducta d.o.o., Zagreb, CROATIA; Infinite Computer Solutions to Infinite Infosoft Services Pvt, Ltd, Guragon, INDIA; ING to ING Bank N.V., Amsterdam, NETHERLANDS; KPN Group Belgium to KPN International, Dusseldorf, GERMANY; Laboratory for Telecomm-Faculty of Elect. Eng. to Laboratory for Telecomm-Faculty of Elect. Eng. University of Ljubljana, Ljubljana, SLOVENIA; Leonid Consulting to Leonid Systems, Washington, DC; Network Critical to Network Critical, LLC, Buffalo, NY; imsoft to Nimsoft, Campbell, CA; Northrop Grumman to North Grumman Corporation-(Information Systems, Defense Enterprise Solutions), McLean, VA; IPDR Technologies, LLC to OpenVault., Golden, CO; Corrigent Systems to Orckit-Corrigent, Tel-Aviv, IS, ISRAEL; Pakistan Telecommunication Company Limited to Pakistan Telecommunication Company Limited PTCL, Islamabad, PAKISTAN; PT Excelcomindo Pratama, Tbk to PT XL Axiata Tbk., Bandung, INDONESIA; SMI Technologies to Quindell Enterprise Solutions, Wickham, Fareham, UNITED KINGDOM; SAPO to SAPO (PT Comunicacoes), Lisbon, PORTUGAL; Sevone to SevOne, Inc., Newark, DE; Smart Communications to SMART COMMUNICATIONS, INC., Makati City, NCR, PHILIPPINES; ybase, an SAP Company to Sybase, an SAP Company, Dublin, CA; Telconet to Telconet S.A., Guayaquil, Guayas, ECUADOR; Cloudscaling to The Cloudscaling Group, Inc., San Francisco, CA; TIBCO Software to TIBCO Software Inc, Palo Alto, CA; True Corporation to True Corporation Public Company Limited, Bangkok, THAILAND; Ultimate Software Group to Ultimate Software, Weston, FL; United telecommunications services to United Telecommunication Services, Willemstad, Curacao, NETHERLANDS ANTILLES; Ventelo Bedrift AS to Ventelo Networks AS, Oslo, NORWAY.

The following parties have withdrawn from this venture: 4STARS Ltd., Zagreb, CROATIA; CAN, Inc., Concord, NC; AIST Limited, Stanmore, Middlesex, UNITED KINGDOM; Analysys Mason, London, UNITED KINGDOM; ARGELA Technologies, Istanbul, N/A, TURKEY; BTG, Driebergen, NETHERLANDS; CBOSS Middle East FZ-LLC, Dubai, UNITED ARAB EMIRATES; Ciminko, Luxembourg, LUXEMBOURG; Cloud Scope Technologies, Inc., Tokyo, JAPAN; Enabling Potential, Inc., Ajax, Ontario, CANADA; Enterprise Designer Institute, Daylesford, Victoria, AUSTRALIA; Everware-CBDI Inc., Fairfax, VA; INTEC Telecom Systems, Minneapolis, MN; INTEC Telecom Systems, Working, Surrey, UNITED KINGDOM; KlassTel, Moscow, RUSSIA; Kulacom, Amman, 11953, JORDAN; LGG Solutions, Colorado Springs, CO; Lightwolf Technologies LLC, Walpole, MA; MAGNA CONSULT, Miami, FL; Nervogrid, Espoo, FINLAND; OKTET Labs Ltd., St. Petersburg, RUSSIA; OpenVision Co., Ltd., Bangkok, Thailand; OT/Partners, Glen Echo, MD; Qualicom Innovations (Asia) Limited, Hong Kong, HONG KONG-CHINA; SARA computing and networking services, Amsterdam, NETHERLANDS; Savvion, Santa Clara, CA; Site of Knowledge Group AB, Lund, SWEDEN; SmartNet, Sao Paulo, BRAZIL; Strata Group Inc., St. Louis, MO; Syntel, Inc., Troy, MI; TailorMade, Sundbyberg, SWEDEN; Telesoft-Russia, Moscow, RUSSIA; Trammell Craig & Associates. Farmington, NM; TTNet A.S. (Turkish Telecom), Sisli/Istanbul, TURKEY; UK Cabinet Office, London, UNITED KINGDOM; Unisys Consulting Spain, Madrid, SPAIN; University of Palermo, Palermo, ITALY; Wiston Wolf-Engenharia e Consultoria Lda., Algés, PORTUGAL.

In addition, the following parties have changed their addresses: Advenis to Linden, BELGIUM; Belgacom, S.A. to Brussels, BELGIUM; Celcom Axiata Berhad to Kuala Lumpur, MALAYSIA; Dialog Axiata PLC to Colombo, SRI LANKA; Hello Axiata Company Ltd. to Khan Chamkarmon, Phnom Penh, CAMBODIA; IPANEMA TECHNOLOGIES to Fontenay aux Roses, FRANCE; ITS Telco Services GmbH to Koln, GERMANY; Objective Systems Integrators to Folsom, CA; Orckit-Corrigent to Tel-Aviv, ISRAEL; PT XL Axiata Tbk. to Jakarta, DKI Jaya 12950, INDONESIA; SevenTest R&D Centre Co. Ltd. to Saint Petersburg, RUSSIA; SMART COMMUNICATIONS, INC. to Makati City, NCR, PHILIPPINES; and Ultimate Software to Weston, FL.

No other changes have been made in either the membership or planned activity of the group research project. Membership in this group research project remains open, and The Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on August 31, 2010. A notice was published in the Federal Register pursuant to Section 6(b) of the Act October 22, 2010 (75 FR 65383).

Patricia A. Brink,
Director of Civil Enforcement Antitrust Division.

[FR Doc. 2011-8365 Filed 4-7-11; 8:45 am]

BILLING CODE P